DEPARTMENT OF COMMERCE

Foreign-Trade Zones Board

[S-100-2021]

Approval of Expansion of Subzone 50R; VF Outdoor, LLC; Ontario, California

On July 12, 2021, the Executive Secretary of the Foreign-Trade Zones (FTZ) Board docketed an application submitted by the Port of Long Beach, grantee of FTZ 50, requesting an expansion of Subzone 50R, on behalf of VF Outdoor, LLC, in Ontario, California.

The application was processed in accordance with the FTZ Act and Regulations, including notice in the Federal Register inviting public comment (86 FR 37737-37738, July 26, 2021). The FTZ staff examiner reviewed the application and determined that it meets the criteria for approval. Pursuant to the authority delegated to the FTZ Board Executive Secretary (15 CFR Sec. 400.36(f)), the application to expand Subzone 50R was approved on August 26, 2021, subject to the FTZ Act and the Board's regulations, including Section 400.13, and further subject to FTZ 50's 2,000-acre activation limit.

Dated: August 26, 2021.
Andrew McGilvray,
Executive Secretary.

[FR Doc. 2021-18883 Filed 8-31-21; 8:45 am]

BILLING CODE 3510-DS-P